DEPARTMENT OF COMMERCE

National Oceanic and Atmospheric Administration

50 CFR Part 660

[Docket No.060824226-6322-02]

RIN 0648-XE38

Fisheries off West Coast States; Pacific Coast Groundfish Fishery; Pacific Whiting Allocation

AGENCY: National Marine Fisheries Service (NMFS), National Oceanic and Atmospheric Administration (NOAA), Commerce.

ACTION: Reapportionment of surplus Pacific whiting allocation; request for comments.

SUMMARY: NMFS has determined that 6,000 metric tons (mt) of the 87,398 mt shore-based sectors allocation would not be used by December 31, 2007. Therefore, automatic action was taken to reapportion the surplus whiting.

DATES: Effective from noon l.t. November 28, 2007, until the start of the 2008 primary seasons, unless modified, superseded or rescinded. Comments will be accepted through January 7, 2008.

ADDRESSES: You may submit comments, identified by the RIN number 0648-XE38, by any one of the following methods:

• Electronic Submissions: Submit all electronic public comments via the Federal eRulemaking Portal http://www.regulations.gov

• Fax: 206-526-6736, Attn: Becky Renko

• Mail: D. Robert Lohn, Administrator, Northwest Region, NMFS, 7600 Sand Point Way NE, Seattle, WA 98115-0070, Attn: Becky Renko

Instructions: All comments received are a part of the public record and will generally be posted to http://www.regulations.gov without change. All personal identifying information (for example, name, address, etc.) voluntarily submitted by the commenter may be publicly accessible. Do not submit confidential business information, or otherwise sensitive or protected information.

NMFS will accept anonymous comments. Attachments to electronic comments will be accepted in Microsoft Word, Excel, WordPerfect, or Adobe PDF file formats only.

FOR FURTHER INFORMATION CONTACT: Becky Renko at 206-526-6110

SUPPLEMENTARY INFORMATION: This action is authorized by regulations implementing the Pacific Coast Groundfish Fishery Management Plan (FMP), which governs the groundfish fishery off Washington, Oregon, and California.

The 2007 non-tribal commercial OY for whiting is 208,091 mt. Regulations at 50 CFR 660.323(a)(4) divide the commercial whiting optimum yield (OY) into separate allocations for the catcher/processor, mothership, and shore-based sectors. The catcher/processor sector is composed of vessels that harvest and process whiting. The mothership sector is composed of catcher vessels that harvest whiting and mothership vessels that process, but do not harvest whiting. The shore-based sector is composed of vessels that harvest whiting for delivery to land-based processors. Each commercial sector receives a portion of the commercial OY. For 2007 the catcher/processors received 34 percent (70,751 mt), motherships received 24 percent (49,942 mt), and the shore-based sector received 42 percent (87,398 mt).

The best available information on November 28, 2007, indicated that 6,000 metric tons (mt) of the 87,398 mt shore-based sector's allocation would not be used by December 31, 2007. Therefore, automatic action was taken to reapportion the surplus whiting. Such reapportionments are generally disbursed to the other sectors in the same proportion as each sector's allotted portion of the commercial OY. However, the mothership sector did not express an interest in harvesting reapportioned whiting in 2007. Therefore, all surplus whiting from the shore-based sector was reallocated to the catcher/processor sector. Facsimiles directly to fishing businesses and postings on the Northwest Regions internet site were used to provide actual notice to the affected fishers.

NMFS Action

This action announces the reapportionment of 6,000 mt of whiting from the shore-based sector to the catcher/processor sector at noon local time November 28, 2007. The revised Pacific whiting allocations by sector for 2007 are: catcher/processor, 76,751 mt; mothership, 49,942 mt; and shore-based, 81,398 mt.

Classification

The determination to take this action is based on the most recent data available. The aggregate data upon which the determination is based are available for public inspection at the Office of the Regional Administrator (see ADDRESSES) during business hours.

This action is authorized by the regulations implementing the FMP. The determination to take this action is based on the most recent data available. The Assistant Administrator for Fisheries, NMFS, finds good cause to waive the requirement to provide prior notice and opportunity for comment on this action pursuant to 5 U.S.C. 553 (3)(b)(B), because providing prior notice and opportunity would be impracticable. It would be impracticable because of the need for immediate action. NMFS has determined that providing an opportunity for prior notice and comment would be impractical and contrary to public interest. Delay of this action would leave whiting unharvested. Unlike the catcher/processors, the smaller shore-based and mothership sectors are comprised of smaller catcher vessels that are less likely to operate in inclement fall and winter weather. The agency believes this constitutes good cause to waive the 30-day delay in effectiveness. In addition, the catcher/processors need an immediate reallocation if they are to keep their workers employed. This actions is taken under the authority of 50 CFR 660.323(a)(2), and are exempt from review under Executive Order 12866. Actual notice of the reapportionment was provided to the affected fishers.

Authority: 16 U.S.C. 1801 et seq.

Dated: December 17, 2007.
Emily H. Menashes,
Acting Director, Office of Sustainable Fisheries, National Marine Fisheries Service.

[FR Doc. E7-24864 Filed 12-20-07; 8:45 am]

BILLING CODE 3510-22-S